DEPARTMENT OF DEFENSE

Office of the Secretary

[Transmittal No. 23-0U]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil

SUPPLEMENTARY INFORMATION: This 36(b)(5)(C) arms sales notification is published to fulfill the requirements of section 155 of Public Law 104-164 dated July 21, 1996. The following is a copy of a letter to the Speaker of the House of Representatives with attached Transmittal 23-0U.

Dated: November 21, 2024.
Stephanie J. Bost,
Alternate OSD Federal Register Liaison Officer, Department of Defense.

BILLING CODE 6001-FR-P

BILLING CODE 6001-FR-C

Transmittal No. 23-0U

REPORT OF ENHANCEMENT OR UPGRADE OF SENSITIVITY OF TECHNOLOGY OR CAPABILITY (SEC. 36(B)(5)(C), AECA)

(i) Purchaser: Government of Australia

(ii) Sec. 36(b)(1), AECA Transmittal No.: 14-12

Date: May 13, 2014

Military Department: Navy

(iii) Description: On May 13, 2014, Congress was notified by Congressional certification transmittal number 14-12, of the possible sale, under Section 36(b)(l) of the Arms Export Control Act of up to 350 AIM-9X-2 Sidewinder Tactical Missiles; 35 AIM-9X Special Air Training Missiles (NATM); 95 AIM-9X-2 Captive Air Training Missiles (CATM); 22 AIM-9X-2 Tactical Guidance Units; 19 CATM-9X-2 Guidance Units; and 3 DATM-9X. Also included were containers, test sets and support equipment, spare and repair parts, publications and technical documents, personnel training and training equipment, United States (U.S.) Government and contractor technical assistance, and other related elements of logistics and program support. The estimated total cost was $534 million. Major Defense Equipment (MDE) constituted $476 million of this total.

On January 9, 2018, Congress was notified by Congressional certification transmittal number 0W-17 of the change from 350 AIM-9X-2 Sidewinder Tactical Missiles to reflect 300 AIM-9X Sidewinder Block II+ Tactical Missiles and 50 AIM-9X-2 Sidewinder Tactical Missiles. Additionally, this transmittal reported the inclusion of 11 CATM-9X-2 Missile Guidance Units. The total notified cost of MDE remained $476 million. The total notified case value remained $534 million.

On December 4, 2020, Congress was notified by Congressional certification transmittal number 0A-21 of the addition of four (4) AIM-9X Block II+ Tactical Missile Guidance Units. The total MDE value increase by $1 million to $477 million. The estimated total case value remained $534 million.

This transmittal notifies inclusion of the following MDE: an additional ten (10) AIM-9X Block II Sidewinder Tactical Guidance Units; thirty-two (32) AIM-9X Block II+ Sidewinder Tactical Guidance Units; and ninety (90) AIM-9X Block II Sidewinder CATM Guidance Units. The estimated total value of the new items is $28 million. The net cost of MDE will increase by $28 million, resulting in a revised MDE value of $505 million. The estimated total case value will remain $534 million.

(iv) Significance: The proposed sale will improve Australia's capability to effectively maintain its current force projection and enhance interoperability with U.S. forces.

(v) Justification: This proposed sale will support the foreign policy and national security objectives of the U.S. Australia is one of our most important allies in the Western Pacific. The strategic location of this political and economic power contributes significantly to ensuring peace and economic stability in the region. It is vital to the U.S. national interest to assist our ally in developing and maintaining a strong and ready self-defense capability.

(vi) Sensitivity of Technology:

The AIM-9X Block II and Block II+ (Plus) SIDEWINDER Missile represents a substantial increase in missile acquisition and kinematics performance over the AIM-9M and replaces the AIM-9X Block I Missile configuration. The missile includes a high off-boresight seeker, enhanced countermeasure rejection capability, low drag/high angle of attack airframe, and the ability to integrate the Helmet Mounted Cueing System. The most current AIM-9X Block II/II+ Operational Flight Software developed for all international partner countries, which is authorized by U.S. Government export policy, provides fifth-generation infrared missile capabilities such as lock-on-after-launch, weapons data link, surface attack, and surface launch. No software source code or algorithms will be released.

The Sensitivity of Technology Statement contained in the original notification applies to additional items reported here.

The highest level of classification of defense articles, components, and services included in this potential sale is SECRET.

(vii) Date Report Delivered to Congress: December 5, 2023

[FR Doc. 2024-27776 Filed 11-26-24; 8:45 am]

BILLING CODE 6001-FR-P